DEPARTMENT OF THE INTERIOR

Bureau of Land Management

[LLCAD08000, L51010000.FX0000.LVRWB09B3130]

Notice of Availability of the Draft Joint Environmental Impact Statement and Environmental Impact Report and California Desert Conservation Area Plan Amendment for the Proposed Soda Mountain Solar Project, San Bernardino County, CA

AGENCY: Bureau of Land Management, Interior.

ACTION: Notice of availability.

SUMMARY: In accordance with the National Environmental Policy Act of 1969, as amended, and the Federal Land Policy and Management Act of 1976, as amended, the Bureau of Land Management (BLM) has prepared a Draft Joint Environmental Impact Statement (EIS) and Environmental Impact Report (EIR) and California Desert Conservation Area (CDCA) Plan Amendment for the Soda Mountain Solar Project (Project), San Bernardino County, California, and by this notice is announcing the opening of the comment period.

DATES: To ensure that comments will be considered, the BLM must receive written comments on the Draft EIS/EIR and Draft CDCA Plan Amendment within 90 days following the date the Environmental Protection Agency publishes its Notice of Availability in the Federal Register. The BLM will announce future meetings or hearings and any other public involvement activities at least 15 days in advance through public notices, media releases, and/or mailings.

ADDRESSES: You may submit comments related to the Soda Mountain Solar Project Draft EIS/EIR and Draft CDCA Plan Amendment by any of the following methods:

• Web site: http://www.blm.gov/ca/st/en/fo/cdd.html.

• Email: sodamtnsolar@blm.gov.

• Fax: 951-697-5299, Attn: Jose M. Najar.

• Mail: California Desert District Office, Attn: Jose M. Najar, 22835 Calle San Juan de los Lagos, Moreno Valley, CA 92553.

Copies of the Soda Mountain Solar Project Draft Joint EIS/EIR and CDCA Plan Amendment are available in the California Desert District Office at the above address and at the Barstow Field Office, 2601 Barstow Road, Barstow, CA 92311.

FOR FURTHER INFORMATION CONTACT: Jose M. Najar, Project Manager, telephone 951-697-5387; address 22835 Calle San Juan de Los Lagos, Moreno Valley, CA 92553; email sodamtnsolar@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM has received a right-of-way (ROW) application from Soda Mountain Solar, LLC, to construct, operate, maintain, and decommission a solar photovoltaic (PV) power plant facility proposed on 4,179 acres with solar fields occupying approximately 2,557 acres of BLM-administered public lands in San Bernardino County, California. The Project would utilize solar panels and would be built in several phases. The Project would connect to the existing Los Angeles Department of Water and Power 500kV transmission line to the west of the project using a transmission interconnect from the proposed substation. The Project would not require any expansion of the existing transmission line or any upgrades.

The Project would be adjacent to Interstate 15 (I-15), South of Blue Bell Mine Road, about 6 miles southwest of Baker, California, and 12 miles northeast of Barstow, California.

The proposed project site is located near the National Park Service's Mojave National Preserve, Soda Mountain and Cady Mountains Wilderness Study Areas, and the Rasor Off Highway Vehicle and Afton Canyon Special Recreation Management Areas within the BLM's CDCA. A portion of the Blue Bell Mine Road lies north adjacent to the project site at its closest point, and runs approximately east to west.

All proposed project components would be located on BLM-administered lands subject to a ROW grant. The proposed Project components would include solar array fields; access roads; collector lines; a substation with switchyard and interconnection; ancillary buildings; six groundwater production, test, and observation water wells; water tanks; a water treatment and storage facility; brine ponds; warehouses; fencing; berms; other infrastructure; and laydown areas. The existing roads would provide access to the proposed project site. New minor internal roads would be constructed among collector lines, substation, arrays and sub arrays, and other ancillary facilities. The interconnection to the proposed substation and collector lines from the arrays would be via underground trench, including underground trenching of I-15. Once approved and operational, the proposed Project is expected to have up to 358 megawatts of generating capacity. In connection with its decision on the proposed Soda Mountain Solar project, the BLM will also include consideration of potential amendments to the CDCA land use plan, as analyzed in the Draft EIS/EIR alternatives. The CDCA plan, while recognizing the potential compatibility of solar energy facilities on public lands, requires that all sites associated with power generation or transmission not identified in the Plan be considered through the land use plan amendment process. The BLM is deciding whether to amend the CDCA Plan to identify the Soda Mountain Solar project site as available or unavailable for solar development.

The Draft EIS/EIR describes the following six alternatives: Alternative A: The Proposed Action—358 MW on 2,557 acres; Alternative B: 264 MW project on 2,127 acres; Alternative C: 298 MW project on 2,354 acres; Alternative D: 250 MW project on 2,134 acres; Alternative E: No action alternative/no project approval—no issuance of a ROW Grant, no county approval of a groundwater well permit, no Land Use Plan (LUP) amendment; Alternative F: BLM approves project with no county approval of a groundwater well permit; and, Alternative G: Planning decision identifying the area as unsuitable for solar, with no BLM ROW—LUP Plan Amendment (PA), no issuance of a ROW Grant, and no county approval of a groundwater well permit. All of the action alternatives, except Alternative E, would include an amendment to the CDCA Plan. Alternative A is the preferred alternative in the Draft EIS.

The issues analyzed in the Draft EIS include the physical, biological, cultural, socioeconomic, and other resources that have the potential to be affected by the proposed project and alternatives. In addition, the Bureau of Land Management (BLM) is analyzing impacts on air quality, greenhouse gas emissions and climate change; geology and soils; hazards and hazardous materials; fire and fuels; water resources, hydrology and water quality; land use, lands and realty; noise; recreation; traffic; visual resources; paleontological resources; public health and safety; lands with wilderness characteristics; socioeconomics and environmental justice; special designations; transportation and public access; cumulative effects, pre and post construction and operations; and areas with high potential for renewable energy development.

The BLM will host one or more public meetings, to be announced separately, which will be held to allow oral or written comments to be presented to the lead agencies. Please see BLM's Web page at http://www.blm.gov/ca/st/en/fo/barstow/renewableenergy/soda_mountain.html for information about the location, date, and time of any such meeting.

All substantive issues raised during the comment period will be considered, and modifications may be made to develop the Final PA/EIS/EIR based on these comments. Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Thomas Pogacnik,
Deputy State Director, Natural Resources, BLM California.

[FR Doc. 2013-28506 Filed 11-27-13; 8:45 am]

BILLING CODE 4310-40-P